DEPARTMENT OF ENERGY

Federal Energy Regulatory Commission

Combined Notice of Filings # 1

November 2, 2006.

Take notice that the Commission received the following electric rate filings:

Docket Numbers: ER03-888-004.

Applicants: Nordic Marketing of Illinois, LLC.

Description: Nordic Marketing of Illinois, LLC submits revision of terms and conditions of its tariff for sales of power at negotiated rates.

Filed Date: 10/30/2006.

Accession Number: 20061101-0148.

Comment Date: 5 p.m. Eastern Time on Monday, November 20, 2006.

Docket Numbers: ER05-406-002.

Applicants: Williams Power Company, Inc.

Description: Williams Power Company, Inc submits an Amended Offer of Settlement along with an Explanatory Statement.

Filed Date: 10/27/2006.

Accession Number: 20061101-0124.

Comment Date: 5 p.m. Eastern Time on Friday, November 17, 2006.

Docket Numbers: ER05-849-007.

Applicants: California Independent System Operator Corporation.

Description: California Independent System Operator Corporation submits a compliance filing, pursuant to FERC's 6/22/05 Order.

Filed Date: 10/30/2006.

Accession Number: 20061101-0149.

Comment Date: 5 p.m. Eastern Time on Monday, November 20, 2006.

Docket Numbers: ER06-185-004.

Applicants: New York Independent System Operator, Inc.

Description: New York Independent System Operator, Inc submits worksheets that detail the results of their Real-Time guarantee payment impact test for April 2005.

Filed Date: 10/23/2006.

Accession Number: 20061031-0209.

Comment Date: 5 p.m. Eastern Time on Monday, November 13, 2006.

Docket Numbers: ER06-1315-001.

Applicants: Midwest Independent Transmission System Operator, Inc.

Description: Midwest Independent Transmission System Operator, Inc submits proposed revisions to the Open Access Transmission and Energy Markets Tariff, to its FERC Electric Tariff, Revised Volume 1.

Filed Date: 10/30/2006.

Accession Number: 20061101-0143.

Comment Date: 5 p.m. Eastern Time on Monday, November 20, 2006.

Docket Numbers: ER07-20-001.

Applicants: PJM Interconnection, LLC.

Description: PJM Interconnection LLC submits proposed revisions to its OATT to amend timing requirements for Short Term Transmission Service, Non-Firm Transmission Service and Secondary Network Service requests.

Filed Date: 10/27/2006.

Accession Number: 20061101-0144.

Comment Date: 5 p.m. Eastern Time on Friday, November 17, 2006.

Docket Numbers: ER07-88-000.

Applicants: Central Hudson Gas & Electric Corporation.

Description: Central Hudson Gas & Electric Corporation submits a Notice of Cancellation of its Rate Schedule FERC 71, effective 10/26/06.

Filed Date: 10/30/2006.

Accession Number: 20061101-0142.

Comment Date: 5 p.m. Eastern Time on Monday, November 20, 2006.

Docket Numbers: ER07-89-000.

Applicants: Southern California Edison Company.

Description: Southern Edison Company submits a Letter Agreement with Green Borders Geothermal, LLC.

Filed Date: 10/30/2006.

Accession Number: 20061101-0141.

Comment Date: 5 p.m. Eastern Time on Monday, November 20, 2006.

Docket Numbers: ER07-90-000.

Applicants: New York State Electric & Gas Corporation.

Description: New York State Electric & Gas Corporation submits a supplement to Rate Schedule FERC 117, Facilities Agreement with Delaware County Electric Cooperative.

Filed Date: 10/30/2006.

Accession Number: 20061101-0140.

Comment Date: 5 p.m. Eastern Time on Monday, November 20, 2006.

Docket Numbers: ER07-91-000.

Applicants: New York State Electric & Gas Corporation.

Description: New York State Electric & Gas Corporation submits a supplement to Rate Schedule FERC 72 Facilities Agreement with the Municipal Board of the Village of Bath.

Filed Date: 10/30/2006.

Accession Number: 20061101-0139.

Comment Date: 5 p.m. Eastern Time on Monday, November 20, 2006.

Docket Numbers: ER07-99-000.

Applicants: New York Independent System Operator, Inc.

Description: New York Independent System Operator, Inc submits a request for limited, temporary waiver.

Filed Date: 10/24/2006.

Accession Number: 20061101-0201.

Comment Date: 5 p.m. Eastern Time on Tuesday, November 14, 2006.

Docket Numbers: ER07-100-000.

Applicants: Koch Supply & Trading, LP.

Description: Koch Supply & Trading, LP submits Petition for Acceptance of Initial Tariff, Waivers and Blanket Authority of its FERC Electric Tariff, Original Volume 1.

Filed Date: 10/31/2006.

Accession Number: 20061101-0203.

Comment Date: 5 p.m. Eastern Time on Tuesday, November 21, 2006.

Docket Numbers: ER07-101-000.

Applicants: Central Vermont Public Service Corporation.

Description: Central Vermont Public Service Corporation submits a Notice of rate adjustments for Borderline Sales Agreement with New York State Electric & Gas Corporation FPC Rate Schedule 29.

Filed Date: 10/31/2006.

Accession Number: 20061101-0204.

Comment Date: 5 p.m. Eastern Time on Tuesday, November 21, 2006.

Docket Numbers: ER07-102-000.

Applicants: El Paso Electric Company.

Description: El Paso Electric Company submits changes in its OATT to reflect revised calculations of real power losses for transmission paths re Arizona Nuclear Power Project Valley Transmission System.

Filed Date: 10/31/2006.

Accession Number: 20061101-0205.

Comment Date: 5 p.m. Eastern Time on Tuesday, November 21, 2006.

Docket Numbers: ER07-103-000.

Applicants: LSP Oakland, LLC.

Description: LSP Oakland, LLC submits revisions to certain Reliability Must-Run Rate Schedules of its Reliability Must Run Agreement with California Independent System Operator Corp for Contract Year 2007.

Filed Date: 10/31/2006.

Accession Number: 20061101-0206.

Comment Date: 5 p.m. Eastern Time on Tuesday, November 21, 2006.

Docket Numbers: ER07-104-000.

Applicants: Ameren Energy Generating Company.

Description: Ameren Services Co on behalf of Ameren Energy Generating Co submits a notice of cancellation of its Second Revised Rate Schedule FERC 1.

Filed Date: 10/31/2006.

Accession Number: 20061101-0207.

Comment Date: 5 p.m. Eastern Time on Tuesday, November 21, 2006.

Docket Numbers: ER07-105-000.

Applicants: Ameren Energy Resources Generating Co.

Description: Ameren Services Co on behalf of Ameren Energy Resources Generating Co submits a revised market-based rate tariff.

Filed Date: 10/31/2006.

Accession Number: 20061101-0208.

Comment Date: 5 p.m. Eastern Time on Tuesday, November 21, 2006.

Docket Numbers: ER07-106-000.

Applicants: Midwest Independent Transmission System Operator, Inc.

Description: Midwest Independent Transmission System Operator, Inc and Ameren Services Co submit Fifth Revised Sheet 888 to FERC Electric Tariff, Third Revised Volume 1 to be effective 1/1/07.

Filed Date: 10/31/2006.

Accession Number: 20061101-0209.

Comment Date: 5 p.m. Eastern Time on Tuesday, November 21, 2006.

Docket Numbers: ER07-107-000.

Applicants: Mirant Delta, LLC.

Description: Mirant Delta, LLC submits a notice of cancellation of Rate Schedule FERC 5, to effective 1/1/07.

Filed Date: 10/31/2006.

Accession Number: 20061101-0210.

Comment Date: 5 p.m. Eastern Time on Tuesday, November 21, 2006.

Docket Numbers: ER07-108-000.

Applicants: ISO New England Inc.

Description: ISO New England Inc submits a non-conforming Market Participant Service Agreement executed with Innoventive Power LLC.

Filed Date: 10/31/2006.

Accession Number: 20061101-0211.

Comment Date: 5 p.m. Eastern Time on Tuesday, November 21, 2006.

Docket Numbers: ER07-109-000.

Applicants: BTEC Southaven LLC.

Description: BTEC Southaven LLC submits an application for order accepting rates for filing and granting waivers and blanket approvals.

Filed Date: 10/31/2006.

Accession Number: 20061101-0212.

Comment Date: 5 p.m. Eastern Time on Tuesday, November 21, 2006.

Docket Numbers: ER07-110-000.

Applicants: BTEC New Albany LLC.

Description: BTEC New Albany LLC submits an application for order accepting rates for filing and granting waivers and blanket approvals.

Filed Date: 10/31/2006.

Accession Number: 20061101-0213.

Comment Date: 5 p.m. Eastern Time on Tuesday, November 21, 2006.

Docket Numbers: ER07-111-000.

Applicants: Mirant Delta, LLC; Mirant Potrero, LLC.

Description: Mirant Delta, LLC and Mirant Potrero, LLC submit revisions to their Must-Run Service Agreements with the California Independent System Operator Corp.

Filed Date: 10/31/2006.

Accession Number: 20061101-0214.

Comment Date: 5 p.m. Eastern Time on Tuesday, November 21, 2006.

Docket Numbers: ER07-113-000.

Applicants: Midwest Independent Transmission System Operator, Inc.; Midwest ISO Transmission Owners; Midwest Stand-Alone Transmission Companies.

Description: Midwest Independent Transmission System Operator, Inc et al. submits proposed revisions to their Open Access Transmission and Energy Markets Tariff, FERC Electric Tariff, Third Revised Volume 1.

Filed Date: 10/31/2006.

Accession Number: 20061101-0215.

Comment Date: 5 p.m. Eastern Time on Tuesday, November 21, 2006.

Docket Numbers: ER07-114-000.

Applicants: Pacific Gas and Electric Company.

Description: Pacific Gas and Electric Co submits two large facilities Agreements with the City and County of San Francisco.

Filed Date: 10/31/2006.

Accession Number: 20061101-0019.

Comment Date: 5 p.m. Eastern Time on Tuesday, November 21, 2006.

Docket Numbers: ER07-116-000.

Applicants: ISO New England Inc.

Description: ISO New England Inc submits revised tariff sheets for recovery of 2007 Administrative Costs & requests limited tariff waiver.

Filed Date: 10/31/2006.

Accession Number: 20061101-0230.

Comment Date: 5 p.m. Eastern Time on Tuesday, November 21, 2006

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-18807 Filed 11-7-06; 8:45 am]

BILLING CODE 6717-01-P